DELAWARE RIVER BASIN COMMISSION

18 CFR Part 410

Amendments to the Water Code and Comprehensive Plan To Implement a Revised Water Audit Approach To Identify and Control Water Loss

AGENCY: Delaware River Basin Commission.

ACTION: Final rule.

SUMMARY: By Resolution No. 2009-01 on March 11, 2009, the Delaware River Basin Commission (“Commission” or “DRBC”) approved amendments to its Water Code and Comprehensive Plan to implement an updated water audit approach to identify and control water loss in the Basin.

DATES: Effective Date: November 20, 2009. The incorporation by reference of the publications listed in this rule is approved by the Director of the Federal Register as of November 20, 2009.

Applicability Date: Commencing January 1, 2012, the owners of water supply systems serving the public with sources or service areas located in the Delaware River Basin must implement an annual calendar year water audit program conforming to the IWA/AWWA Water Audit Methodology and corresponding AWWA guidance. Commencing January 1, 2013, reported “non-revenue water” must be computed in accordance with the new methodology and guidance.

FOR FURTHER INFORMATION CONTACT: Pamela M. Bush, Commission Secretary and Assistant General Counsel by phoning 609-883-9500 Ext. 203, or by e-mail to Pamela.Bush@drbc.state.nj.us.

SUPPLEMENTARY INFORMATION: The Delaware River Basin Commission (“Commission” or “DRBC”) is a federal-state regional agency charged with managing the water resources of the Delaware River Basin without regard to political boundaries. Its members are the governors of the four basin states—Delaware, New Jersey, New York, and Pennsylvania—and the North Atlantic Division Commander of the U.S. Army Corps of Engineers, representing the federal government.

Notice of the proposed amendments appeared in the Federal Register (73 FR 44945) on August 1, 2008 as well as in the Delaware Register of Regulations on September 1, 2008 (12 DE Reg. 275-278 (09/01/2008)), the New Jersey Register (40 N.J.R. 4499) on August 4, 2008, the New York State Register (page 2) on August 20, 2008 and the Pennsylvania Bulletin (38 Pa. B. 4373) on August 9, 2008.

The amendments to the Comprehensive Plan and Article 2 of the Water Code finalized by the Commission on March 11, 2009 phase in a program requiring water purveyors to perform a water audit and report their findings in accordance with a new audit structure established by the American Water Works Association (AWWA) and the International Water Association (IWA). Effective January 1, 2012, the owners of water supply systems serving the public with sources or service areas located in the Delaware River Basin must implement an annual calendar year water audit program conforming to the IWA/AWWA Water Audit Methodology and corresponding AWWA guidance. Commencing January 1, 2013, reported “non-revenue water” must be computed in accordance with the new methodology and guidance. During the period between the effective date of the rule and ending December 31, 2011 (hereinafter, “phase-in period”) water purveyors are encouraged to implement the new methodology and guidance on a voluntary basis.

The Commission has determined that the new water audit methodology provides a rational approach that will facilitate more consistent tracking and reporting than the current approach allows. It will help water managers and regulators, including the Commission, state agencies, and utility managers, target their efforts to improve water supply efficiency, thereby reducing water withdrawals. Improving water accountability will contribute to achieving objective 1.3.C of the Water Resources Plan for the Delaware River Basin (DRBC 2004), which calls for ensuring maximum feasible efficiency of water use across all sectors.

The Commission conducted an informational meeting on the proposed amendments on September 10, 2008 and a public hearing on September 25, 2008, both in West Trenton, New Jersey. Written comment on the proposed amendments was accepted through October 3, 2008. The Commission received one written submission and no oral testimony on the proposed amendment. The agency made revisions to the proposed rule on its own initiative for clarification. A comment and response document summarizing the comments on the proposed rule and setting forth the Commission's responses and revisions in detail was approved by the Commission simultaneously with adoption of the final rule.

The final form of the rule differs from the proposed rule in the following respects: For purposes of clarity, a definition of “non-revenue water” consistent with the AWWA definition was added to Section 2.1.6.A. of the rule. The definition of “unaccounted-for water” in the same section was amended to include a definition of “unaccounted-for water percent.” This change was made because the computation must return a percentage value so that it can be measured against the performance target of less than 15% unaccounted-for water.

The Commission also added language to establish that until use of the IWA/AWWA Water Audit methodology becomes mandatory on January 1, 2012, DRBC's regulatory standards for leak detection and repair (i.e., measurement and control of unaccounted-for-water), set forth in Section 2.1.6 of the Water Code, shall remain in force. System operators who voluntarily submit audits in a form consistent with the new methodology during the phase-in period are advised in the Commission's comment and response document that non-revenue water volume expressed as a percentage of input volume will be treated as the equivalent of unaccounted-for-water, the measure applicable under the existing rule. The comment and response document explains that once the Water Audit method is introduced throughout the Delaware Basin and a body of data is available for analysis, a more meaningful measure of system performance will be established.

DRBC Resolution No. 2009-1 and a copy of the comment and response document are both available on the DRBC Web site, http://www.drbc.net. Resolution No. 2009-1 incorporates Article 2 of the Water Code, showing the amendments as proposed in August 2008 and as finally approved by the Commission on March 11, 2009. Copies of Resolution No. 2009-1 and the Water Code may be obtained from the Commission's Secretary and Assistant General Counsel at the telephone number and e-mail address listed above. A charge for printing and mailing may apply.

List of Subjects in 18 CFR Part 410

Incorporation by reference, Water audit, Water pollution control, water reservoirs, Water supply, Watersheds.

For the reasons set forth in the preamble, the Delaware River Basin Commission amends part 410 of title 18 of the Code of Federal Regulations as follows:

PART 410—BASIN REGULATIONS; WATER CODE AND ADMINISTRATIVE MANUAL—PART III WATER QUALITY REGULATIONS

1. The authority citation for part 410 continues to read:

Authority: Delaware River Basin Compact, 75 Stat. 688.

2. Revise the first sentence of paragraph (c) of § 410.1 to read as follows:

§ 410.1 Basin regulations—Water Code and Administrative Manual—Part III Water Quality Regulations.

* * * * *

(c) Work, services, activities and facilities affecting the conservation, utilization, control, development or management of water resources within the Delaware River Basin are subject to regulations contained within the Delaware River Basin Water Code with Amendments Through March 11, 2009, Printed: November 12, 2009, and the Administrative Manual—Part III Water Quality Regulations with Amendments Through July 16, 2008, Printed: September 12, 2008. * * *

* * * * *

Dated: November 12, 2009.
Pamela M. Bush,
Secretary and Assistant General Counsel.

[FR Doc. E9-27645 Filed 11-19-09; 8:45 am]

BILLING CODE 6360-01-P